DEPARTMENT OF DEFENSE

Department of the Navy

Meeting of the Board of Advisors to the Superintendent, Naval Postgraduate School

AGENCY: Department of the Navy, DoD.

ACTION: Notice of open meeting.

SUMMARY: The purpose of the meeting is to elicit the advice of the board on the Naval Service's Postgraduate Education Program. The board examines the effectiveness with which the Naval Postgraduate School is accomplishing its mission. To this end, the board will inquire into the curricula, instruction, physical equipment, administration, state of morale of the student body, faculty, and staff; fiscal affairs; and any other matters relating to the operation of the Naval Postgraduate School as the board considers pertinent. This meeting will be open to the public.

DATES: The meetings will be held on Monday, February 4, 2002 from 8:30 a.m. to 4 p.m. and on Tuesday, February 5, 2002 from 8 a.m. to 12 p.m.

ADDRESSES: The meetings will be held at the National Defense University, Fort McNair, Hill Conference Room, Roosevelt Hall, Washington, DC.

FOR FURTHER INFORMATION CONTACT: Mrs. Jaye Panza, Naval Postgraduate School, 1 University Circle, Monterey, CA, 93943-5000, telephone number (831) 656-2514.

Dated: January 7, 2002.
T.J. Welsh,
Lieutenant Commander, Judge Advocate General's Corp, U.S. Navy, Federal Register Liaison Officer.

[FR Doc. 02-696 Filed 1-10-02; 8:45 am]

BILLING CODE 3810-FF-P